ENVIRONMENTAL PROTECTION AGENCY

[FRL-6909-1]

Science Advisory Board; Notification of Public Advisory Committee Meeting

Pursuant to the Federal Advisory Committee Act, Public Law 92-463, notice is hereby given that the Radiation Advisory Committee (RAC) of the USEPA Science Advisory Board (SAB), will meet December 12-14, 2000 in conference room 6013, USEPA, Ariel Rios Building North, 1200 Pennsylvania Avenue, NW., Washington, DC 20004. The meeting will begin by 9:00 a.m. on December 12 and adjourn no later than 2:30 p.m. on December 14. All times noted are Eastern Standard Time. The meeting is open to the public; however, seating is limited and available on a first come basis. Important Notice: Documents that are the subject of SAB reviews are normally available from the originating EPA office and are not available from the SAB Office_information concerning availability of documents from the relevant Program Office is included below.

Purpose of the Meeting_During this meeting, the RAC intends to draft its review on the Draft Sewage Sludge Dose Modeling Report jointly issued by the U.S. Nuclear Regulatory Commission (NRC) and the U.S. Environmental Protection Agency (EPA) prepared as part of the Sewage Sludge Subcommittee of Interagency Steering Committee on Radiation Standards (ISCORS). The Draft Sewage Sludge Dose Modeling report will assess potential radiation dose from various sewage sludge handling and end/use disposal practices. The estimates will be included in the final Guidance Document to help publicly owned treatment work (POTW) operators better understand and interpret radionuclide data associated with sewage sludge. The charge questions to be answered, include, but are not limited to the following:

(1) Are the dose modeling scenarios reasonable? Does the document adequately explain them?

(2) Are the scenarios sufficiently representative of the major exposure situations?

(3) Are the approaches to obtaining the modeling parameters and distributions scientifically defensible? Is the methodology's approach for characterizing uncertainty appropriate?

Further, the RAC will be conducting a planning session for their Spring 2001 review of the Multi-Agency Radiological Laboratory Protocols (MARLAP) Manual.

Follow-up Teleconference Meeting_If additional questions arise following the meeting that concern the development of the RAC's report on the Draft Sewage Sludge Dose Modeling Report that need clarification or additional discussion, the Committee will address these in a public teleconference meeting that is planned for Wednesday, January 17, 2001, from 12:00-2:00 pm. That meeting, if held, will be hosted out of the same location as the December 12-14, 2000 meeting. Please contact Ms. Medina-Metzger for details on participating in person or via phone. Please check the SAB website (www.epa.sab/sab) after January 8, 2001 to determine if this follow-up teleconference meeting will take place or not.

Availability of Materials_A copy of the draft meeting agenda will be available on the SAB website (www.epa.gov/sab) approximately two weeks prior to the meeting.

For Further Information_Any member of the public wishing further information concerning either meeting or wishing to submit brief oral comments must contact Ms. Melanie Medina-Metzger, Designated Federal Officer, Science Advisory Board (1400A), U.S. Environmental Protection Agency, Ariel Rios Building, 1200 Pennsylvania Avenue, NW., Washington, DC 20460; telephone (202) 564-5987; FAX (202) 501-0582; or via e-mail at medina-metzger.melanie@epa.gov. Requests for oral comments must be in writing (e-mail, fax or mail) and received by Ms. Medina-Metzger no later than noon Eastern Time December 8, 2000. Public comments will be normally limited to ten minutes per speaker or organization. The request should identify the name of the individual making the presentation, the organization (if any) they will represent, any requirements for audio visual equipment (e.g., overhead projector, 35mm projector, chalkboard, easel, etc.), and at least 35 copies of an outline of the issues to be addressed or of the presentation itself.

For questions pertaining to the Review on the ISCORS Draft Sewage Sludge Dose Modeling Report or on any other topics discussed between the SAB's RAC and the ORIA staff, please contact Dr. Mary E. Clark, (6601J), ORIA, U.S. Environmental Protection Agency, 1200 Pennsylvania Ave, NW., Washington, D.C. 20460, tel. (202) 564-9348; fax (202)-565-2043; or E-mail: clark.marye@epa.gov.

Providing Oral or Written Comments at SAB Meetings

It is the policy of the Science Advisory Board to accept written public comments of any length, and to accommodate oral public comments whenever possible. The Science Advisory Board expects that public statements presented at its meetings will not be repetitive of previously submitted oral or written statements.

Oral Comments

In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting.

Written Comments

Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IMB-PC/Windows 95/98 format). Those providing written comments and who attend the meeting are also asked to bring 35 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. Medina-Metzger at least five business days prior to the meeting so that appropriate arrangements can be made.

Dated: November 21, 2000.
Donald G. Barnes,
Staff Director, Science Advisory Board.

[FR Doc. 00-30277 Filed 11-27-00; 8:45 am]

BILLING CODE 6560-50-M